FEDERAL RESERVE SYSTEM

Sunshine Act Meeting

Agency Holding the Meeting: Board of Governors of the Federal Reserve System Federal Register Citation of Previous Announcement: 66 FR 63059, December 4, 2001.

Previously Announced Time and Date of the Meeting: 10:00 a.m., Friday, December 7, 2001.

Changes in the Meeting: The open meeting has been canceled.

Contact Person for More Information: Michelle A. Smith, Assistant to the Board; 202-452-3204.

Supplementary Information: You may call 202-452-3206 for a recorded announcement of this meeting; or you may contact the Board's Web site at http://www.federalreserve.gov for an electronic announcement. (The Web site also includes procedural and other information about the open meeting.)

Dated: December 7, 2001.
Robert deV. Frierson,
Deputy Secretary of the Board.

[FR Doc. 01-30663 Filed 12-7-01; 11:23 am]

BILLING CODE 6210-01-P